DEPARTMENT OF TRANSPORTATION

Pipeline and Hazardous Materials Safety Administration

[Docket No. PHMSA-2016-0006]

Pipeline Safety: Request for Special Permit

AGENCY: Pipeline and Hazardous Materials Safety Administration (PHMSA); DOT.

ACTION: Notice.

SUMMARY: PHMSA is publishing this notice to solicit public comments on a request to reincorporate one (1) special permit segment submitted by Southern Natural Gas (SNG), a subsidiary of Kinder Morgan, Inc. SNG is seeking relief from compliance with certain requirements in the Federal pipeline safety regulations. At the conclusion of the 30-day comment period, PHMSA will review the comments received from this notice as part of its evaluation to grant or deny the special permit request.

DATES: Submit any comments regarding this special permit request by July 28, 2025.

ADDRESSES: Comments should reference the docket number for this special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information

Confidential Business Information (CBI) is commercial or financial information that is both customarily and treated as private by its owner. Under the Freedom of Information Act (FOIA) (5 United States Code 552), CBI is exempt from public disclosure. If your comments responsive to this notice contain commercial or financial information that is customarily treated as private, that you treat as private, and that is relevant or responsive to this notice, it is important that you clearly designate the submitted comments as CBI. Pursuant to 49 Code of Federal Regulations (CFR) § 190.343, you may ask PHMSA to give confidential treatment to information you give to the agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Lee Cooper, DOT, PHMSA-PHP-80, 1200 New Jersey Avenue SE, Washington, DC 20590-0001. Any commentary PHMSA receives that is not specifically designated as CBI will be placed in the public docket for this matter.

FOR FURTHER INFORMATION CONTACT:

General: Mr. Lee Cooper by telephone at 202-913-3171, or by email at lee.cooper@dot.gov.

Technical: Mr. Zaid Obeidi by telephone at 202-768-4354, or by email at zaid.obeidi@dot.gov.

SUPPLEMENTARY INFORMATION: PHMSA received a special permit request from SNG, a subsidiary of Kinder Morgan, Inc., on January 27, 2025, seeking to reincorporate a previously issued special permit segment into special permit PHMSA-2016-0006. The new special permit segment request is a part of the active permit's special permit inspection area (SPIA). Special permit PHMSA-2016-0006 allows SNG to deviate from the Federal pipeline safety regulations in 49 CFR 192.611(a), (d), and 192.619(a), where a gas transmission pipeline segment has undergone a change from a Class 1 to a Class 3 location.

Special permit PHMSA-2016-0006 was initially granted on September 1, 2016 and included the requested special permit segment. Due to a class location drop, which made the need for a special permit unnecessary for this specific special permit segment, when the special permit was reissued on March 17, 2023, the relevant special permit segment was not included. The currently issued special permit is effective until March 17, 2028 for 16 special permit segments, which include 16,792 feet (approximately 3.180 miles) of the SNG natural gas transmission pipeline system located in the states of Alabama, Georgia, and Louisiana. The special permit segment requested to be reincorporated is 948 feet (approximately 0.179 miles). If granted, the special permit segments would total 17,740 feet (approximately 3.360 miles).

The requested new special permit segment details are as follows:

SPS No. | Status | County, state | Outside diameter (inches) | Line name | Length (feet) | Year installed | Maximum allowable operating pressure (pounds per square inch gauge)
729 (Previously known as segment 2) | New Segment | Autauga, AL | 30 | South Main 2nd Loop Line | 948 | 1981 | 1,200

Upon receipt of this request, an Environmental Protection Specialist from PHMSA's Environmental Analysis and Compliance Division reviewed the Final Environmental Assessment (FEA) and its findings. In consideration of this, PHMSA finds that the expansion of the proposed special permit would not result in significant impacts to the human environment. Furthermore, the existing FEA and Finding of No Significant Impact remain adequate, pursuant to the National Environmental Policy Act of 1969, as amended (42 U.S.C. 4321 et seq.). No further environmental assessment is required for this proposal.

SNG's new special permit segment request, active special permit with conditions, and Final Environmental Assessment are available for review and public comment in Docket No. PHMSA-2016-0006. PHMSA invites interested persons to review and submit comments in the docket on the special permit segment request. Please submit comments on any potential safety, environmental, and other relevant considerations implicated by the special permit request. Comments may include relevant data.

Before issuing a decision on the special permit request, PHMSA will evaluate all comments received on or before the comments closing date. PHMSA will consider each relevant comment it receives in making its decision to grant or deny this special permit request.

Issued in Washington, DC, on June 24, 2025 under authority delegated in 49 CFR 1.97.
Linda Daugherty,
Acting Associate Administrator for Pipeline Safety.

[FR Doc. 2025-11785 Filed 6-25-25; 8:45 am]

BILLING CODE 4910-60-P